DEPARTMENT OF HEALTH AND HUMAN SERVICES

Health Resources and Services Administration

Ryan White HIV/AIDS Program Parts A and B Integrated HIV Planning Implementation Cooperative Agreement to John Snow, Inc. (JSI), U69HA30144

AGENCY: Health Resources and Services Administration (HRSA), Department of Health and Human Services.

ACTION: Notice of non-competitive FY 2018 supplemental award.

SUMMARY: This noncompetitive supplement award to JSI will support and strengthen current Ryan White HIV/AIDS Program (RWHAP) Part A and Part B priority setting and resource allocation processes to ensure people living with HIV are linked to care, remain engaged in care, and achieve viral suppression.

FOR FURTHER INFORMATION CONTACT: Dr. Rene Sterling, Acting Director, Division of State HIV/AIDS Programs, HIV/AIDS Bureau, HRSA; 5600 Fishers Lane, Room 09W50, Rockville, MD 20857; Phone: (301) 443-9017, Email: rsterling@hrsa.gov.

SUPPLEMENTARY INFORMATION:

Intended Recipient of the Award: JSI (U69HA30144).

Amount of Non-Competitive Award: $300,000 in FY 2018.

Period of Funding: July 1, 2018, through June 30, 2019.

CFDA Number: No. 93.145.

Authority: Sections 2606 and 2654(b) of the Public Health Service Act, as amended by the Ryan White HIV/AIDS Treatment Extension Act of 2009 (Pub. L. 111-87).

Justification: In 2016, JSI was awarded a 3-year cooperative agreement under HRSA-16-082 RWHAP Integrated HIV Planning Implementation (CFDA 93.145), authorized by Sections 2606 and 2654(b) of the Public Health Service Act, as amended by the Ryan White HIV/AIDS Treatment Extension Act of 2009 (Pub. L. 111-87). The cooperative agreement was established to provide technical assistance to RWHAP Parts A and B recipients and their planning bodies regarding: (1) The integration of HIV planning across prevention, care, and treatment service delivery systems; and (2) the development, implementation, monitoring, and evaluation of Integrated HIV Prevention and Care Plans. RWHAP Parts A and B recipients and planning bodies use Integrated Plans to better inform and coordinate HIV prevention and care program planning, resource allocation, and continuous quality improvement efforts to meet the HIV service delivery needs within their jurisdictions.

The proposed supplemental funding will provide RWHAP Parts A and B recipients with additional technical assistance (TA) specifically focused on resource allocation planning and implementation. These additional TA activities will build upon data elements identified in the Integrated Plan and provide jurisdictions with strategies, tools, and resources to effectively allocate annual available resources to prioritize HIV unmet needs. The TA activities will be directed at addressing more efficient and proactive methods in the Priority Setting and Resource Allocation (PSRA) process to increase the ability of health care providers and systems to ensure people living with HIV are linked to care, remain engaged in care, and achieve HIV viral suppression.

Dated: June 12, 2018.
George Sigounas,
Administrator.

[FR Doc. 2018-13121 Filed 6-18-18; 8:45 am]

BILLING CODE 4165-15-P